DEPARTMENT OF HEALTH AND HUMAN SERVICES

National Institutes of Health

National Institute on Alcohol Abuse and Alcoholism; Amended Notice of Meeting

Notice is hereby given of a change in the meeting of the National Institute on Alcohol Abuse and Alcoholism Special Emphasis Panel, April 24, 2020, 8:00 a.m. to 5:00 p.m., National Institutes of Health, National Institute on Alcohol Abuse and Alcoholism, 6700B Rockledge Drive, Bethesda, MD 20817, which was published in the Federal Register on January 27, 2020, 85 FR 4673.

This meeting notice is amended to change the meeting dates, times, and format. The meeting will now be held as a teleconference on two days—April 23, 2020, 8:00 a.m. to April 24, 2020, 6:00 p.m. The meeting is closed to the public.

Dated: March 13, 2020.
Melanie J. Pantoja,
Program Analyst, Office of Federal Advisory Committee Policy.

[FR Doc. 2020-05645 Filed 3-17-20; 8:45 am]

BILLING CODE 4140-01-P